DEPARTMENT OF HEALTH AND HUMAN SERVICES

Centers for Disease Control and Prevention

[60 Day-08-08BD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of HIV Testing in Hospitals—New—National Center for HIV, Viral Hepatitis, STD and TB Prevention (NCHHSTP), Centers for Disease Control and Prevention (CDC).

Background and Brief Description

Early identification of HIV infection has significant benefits to the infected individual and society. In light of recent advancements in HIV testing and treatment, the Centers for Disease Control and Prevention (CDC) released its prevention initiative, Advancing HIV Prevention: New Strategies for a Changing Epidemic. A key component of this strategy focuses upon increased HIV testing in healthcare settings to increase the number of persons with HIV who are aware of their infection and are successfully referred to treatment and prevention services. In September 2006, CDC released revised recommendations for routine HIV testing of adults, adolescents, and pregnant women in healthcare settings as a measure to address the high number of individuals who are unaware of their HIV infection.

Routine HIV testing programs in hospital settings, including emergency departments (EDs) and urgent care centers (UCCs), have great potential to identify a large number of previously undiagnosed individuals. Prior to the release of the revised recommendations, few such hospital-based testing programs had existed in the United States. CDC is committed to increasing the number of such programs in the U.S., and is currently working with partners to achieve these goals. This project proposes a survey to assess HIV testing policies and practices in hospitals nationwide and to describe the up-take of the revised HIV testing recommendations for hospital settings.

The objectives of this project are: (1) To determine the extent to which HIV testing is being conducted in U.S. hospitals; (2) to describe the characteristics of hospitals with and without HIV testing programs; and (3) to identify barriers to and facilitators of implementing HIV testing programs in these settings. This data will assist CDC in monitoring the uptake of recommendations for HIV testing in healthcare settings.

CDC is requesting approval for a 2-year clearance for data collection. This project will collect data from hospitals on a one-time voluntary basis using a brief survey. Surveys will be completed by the hospital administrators at each site who are most knowledgeable on HIV testing practices, infection control, and laboratory procedures for their site, in consultation with other hospital staff, as necessary. Collection of data will provide information on current HIV testing practices and policies for the hospital; use of point-of-care and conventional HIV tests; and barriers and facilitators of hospital-based HIV testing.

Data will be requested from a representative sample of 4,927 U.S. community hospitals. Surveys will be sent to approximately 1,000 hospital sites with an estimated 70% response rate, based upon estimates from response rates from prior similar surveys among U.S. hospitals. This will result in approximately 700 participating hospital sites, representing approximately 15% of U.S. community hospitals. The average duration of the survey, including time required to collect the requested data, is estimated to be 4 hours per hospital site. There is no cost to the participating hospitals other than their time.

Estimated Annualized Burden Hours
Type of form | Number of respondents | Number of responses per respondent | Average burden per response in hours | Total burden in hours
Hospital Survey | 700 | 1 | 4 | 2,800
Total |  |  |  | 2,800

Dated: May 8, 2008.
Maryam I. Daneshvar,
Acting Reports Clearance Officer, Centers for Disease Control and Prevention.

[FR Doc. E8-10935 Filed 5-15-08; 8:45 am]

BILLING CODE 4163-18-P